DEPARTMENT OF COMMERCE

International Trade Administration

[A-533-930, C-533-931]

Certain High Chrome Cast Iron Grinding Media From India: Amended Final Affirmative Antidumping Duty Determination and Antidumping Duty Order; Countervailing Duty Order

AGENCY: Enforcement and Compliance, International Trade Administration, Department of Commerce.

SUMMARY: Based on affirmative final determinations by the U.S. Department of Commerce (Commerce) and the U.S. International Trade Commission (ITC), Commerce is issuing antidumping duty (AD) and countervailing duty (CVD) orders on certain high chrome cast iron grinding media (grinding media) from India. In addition, Commerce is amending its final determination in the less-than-fair-value (LTFV) investigation of certain high chrome cast iron grinding media from India to correct a ministerial error. The period of investigation (POI) is April 1, 2023, through March 31, 2024.

DATES: Applicable June 18, 2025.

FOR FURTHER INFORMATION CONTACT: Charles DeFilippo (AD), Office VII, at (202) 482-3797; or Katherine Smith (CVD), Office II, at (202) 482-0557; AD/CVD Operations, Enforcement and Compliance, International Trade Administration, U.S. Department of Commerce, 1401 Constitution Avenue NW, Washington, DC 20230.

SUPPLEMENTARY INFORMATION:

Background

In accordance with sections 705(d), 735(d), and 777(i) of the Tariff Act of 1930, as amended (the Act), on April 28, 2025, Commerce published its final affirmative determination of sales at LTFV from India and its affirmative final determination that countervailable subsidies are being provided to producers and exporters of grinding media from India.¹ On April 28, 2025, Commerce received allegations of a ministerial error regarding the AD Final Determination from Magotteaux Inc. (the petitioner).² We received no rebuttal comments. We reviewed the allegation and determined that we made a ministerial error in the AD Final Determination on grinding media from India. See “Amendment to the AD Final Determination” section below for further discussion. On June 11, 2025, the ITC notified Commerce of its affirmative final determination that an industry in the United States is materially injured within the meaning of sections 705(b)(1)(A)(i) and 735(b)(1)(A)(i) of the Act.³

¹ See Certain High Chrome Cast Iron Grinding Media from India: Final Affirmative Determination of Sales at Less Than Fair Value, 90 FR 17577 (April 28, 2025) (AD Final Determination); see also Certain High Chrome Cast Iron Grinding Media from India: Final Affirmative Countervailing Duty Determination, 90 FR 17575 (April 28, 2025) (CVD Final Determination).

² See Petitioner's Letter, “Petitioner's Final Determination Ministerial Error Comments,” dated April 28, 2025 (Ministerial Error Allegation).

³ See ITC's Letter, “Notification of ITC Final Determinations,” dated June 11, 2025.

Scope of the Orders

The product covered by these orders is grinding media from India. For a complete description of the scope of these orders, see the appendix to this notice.

Amendment to the AD Final Determination

On April 28, 2025, the petitioner timely alleged that Commerce made a ministerial error in the AD Final Determination with respect to the duty margin assigned to AIA Engineering Limited (AIAEL) and its affiliates (collectively, AIA).⁴ No other party made an allegation of ministerial errors or submitted a rebuttal to the petitioner's ministerial error allegation under 19 CFR 351.224(c)(3). Commerce reviewed the record and agreed that the error alleged by the petitioner constitutes a ministerial error within the meaning of section 735(e) of the Act and 19 CFR 351.224(f).⁵ Specifically Commerce found that it made an inadvertent error in not accounting for AIA's reporting of certain brokerage and handling incurred in the United States. Pursuant to 19 CFR 351.224(e), Commerce is amending the AD Final Determination to reflect the correction of the ministerial error, as described in the Ministerial Error Memorandum.⁶ Based on the correction, AIA's final dumping margin rate changed from 9.58 percent to 9.79 percent. As a result, we are also revising the all-others rate from 9.58 percent to 9.79 percent. The amended estimated weighted-average dumping margins are listed in the “Estimated Weighted-Average Dumping Margins” section below.

⁴ See Ministerial Error Allegation.

⁵ See Memorandum, “Analysis of Ministerial Error Allegations,” dated concurrently with this notice (Ministerial Error Memorandum).

⁶ Id.

Antidumping Duty Order

On June 11, 2025, in accordance with section 735(d) of the Act, the ITC notified Commerce of its final determination that an industry in the United States is materially injured within the meaning of section 735(b)(1)(A)(i) of the Act by reason of imports of grinding media that are sold in the United States at less than fair value. Therefore, in accordance with sections 735(c)(2) and 736 of the Act, Commerce is issuing this AD order. Because the ITC determined that imports of grinding media from India are materially injuring a U.S. industry, unliquidated entries of such merchandise from India, entered or withdrawn from warehouse for consumption, are subject to the assessment of antidumping duties.

Therefore, in accordance with section 736(a)(1) of the Act, Commerce will direct U.S. Customs and Border Protection (CBP) to assess, upon further instruction by Commerce, antidumping duties equal to the amount by which the normal value of the merchandise exceeds the export price (or constructed export price) of the merchandise, for all relevant entries of grinding media from India. Antidumping duties will be assessed on unliquidated entries of grinding media from India entered, or withdrawn from warehouse, for consumption on or after December 6, 2024, the date of publication of the AD Preliminary Determination but will not include entries occurring after the expiration of the provisional measures period and before publication of the ITC's final injury determination, as further described below.⁷

⁷ See Certain High Chrome Cast Iron Grinding Media from India: Preliminary Affirmative Determination of Sales at Less Than Fair Value, Postponement of Final Determination, and Extension of Provisional Measure, 89 FR 96939 (December 6, 2024) (AD Preliminary Determination).

Suspension of Liquidation and Cash Deposits—AD

Commerce intends to instruct CBP to reinstitute the suspension of liquidation of grinding media from India, effective on the date of publication of the ITC Final Determination in the Federal Register, and to assess, upon further instruction by Commerce, antidumping duties on each entry of subject merchandise based on the estimated weighted-average dumping margins indicated in the table below. These instructions suspending liquidation will remain in effect until further notice.

Commerce also intends to instruct CBP to require cash deposits equal to the estimated weighted-average dumping margins indicated in the table below. Accordingly, effective on the date of publication in the Federal Register of the notice of the ITC's final affirmative injury determination, CBP will require, at the same time as importers would normally deposit estimated customs duties on this subject merchandise, a cash deposit equal to the rates listed in the table below. The all-others rate applies to all producers and exporters not specifically listed below, as appropriate.

Estimated Weighted-Average Dumping Margins

Commerce determines that the following estimated weighted-average dumping margins exist:

⁸ Adjusted for export subsidies of 2.88 percent (comprised of 1.63 percent for the Duty Drawback Program (DDB), 1.00 percent for the Remission of Duties and Taxes on Export Products program (RoDTEP), 0.07 percent for the Status Holder Incentive Scheme (SHIS) program, and 0.18 percent for the Interest Equalization Scheme (IES)). See CVD Final Determination.

⁹ We determined that AIAEL and Welcast Steel Limited (Welcast) are a single entity. In addition, we determine that AIAEL is affiliated with Vega Industries (Middle East) F.Z.C (Vega ME) and Vega Industries, Ltd, USA (Vega USA). See Memorandum, “Preliminary Affiliation and Collapsing Memorandum for AIA Engineering Limited, Welcast Steel Limited, Vega Industries (Middle East) F.Z.C, and Vega Industries Ltd, USA,” dated November 29, 2024.

Exporter/producer | Weighted-average dumping margin (percent) | Cash deposit rate (adjusted for subsidy offset(s)) (percent) ⁸
AIA Engineering Limited ⁹ | 9.79 | 6.91
All Others | 9.79 | 6.91

Provisional Measures—AD

Section 733(d) of the Act states that suspension of liquidation pursuant to an affirmative preliminary determination may not remain in effect for more than four months, except where exporters representing a significant proportion of exports of the subject merchandise request that Commerce extend the four-month period to no more than six months. At the request of the exporter that accounted for a significant proportion of export of grinding media from India, Commerce extended the four-month period to no more than six months.¹⁰ Therefore, the six-month period beginning on the date of the publication of the AD Preliminary Determination ended on June 3, 2025.

¹⁰ See AD Preliminary Determination.

Consequently, in accordance with section 733(d) of the Act, Commerce intends to instruct CBP to terminate the suspension of liquidation and to liquidate, without regard to antidumping duties, unliquidated entries of grinding media from India entered, or withdrawn from warehouse, for consumption on or after June 4, 2025, the first day provisional measures were no longer in effect, until and through the day preceding the date of publication of the ITC Final Determination. Suspension of liquidation and the collection of cash deposits will resume on the date of publication of the ITC Final Determination in the Federal Register.

Countervailing Duty Order

As stated above, based on the above-referenced affirmative determination by the ITC that an industry in the United States is materially injured within the meaning of section 705(b)(1)(A)(i) of the Act by reason of subsidized imports of grinding media from India, in accordance with sections 705(c)(2) and 706 of the Act, Commerce is issuing this CVD order. Because the ITC determined that imports of grinding media from India are materially injuring a U.S. industry, unliquidated entries of such merchandise entered, or withdrawn from warehouse, for consumption, are subject to the assessment of countervailing duties.

Therefore, in accordance with section 706(a) of the Act, Commerce will direct CBP to assess, upon further instruction by Commerce, countervailing duties on all relevant entries of grinding media from India, which are entered, or withdrawn from warehouse, for consumption on or after October 4, 2024, the date of the publication of the CVD Preliminary Determination,¹¹ but will not include entries occurring after the expiration of the provisional measures and before the publication in the Federal Register of the ITC's final injury determination under section 705(b) of the Act, as further described in the “Provisional Measures—CVD” section of this notice.

¹¹ See Certain High Chrome Cast Iron Grinding Media from India: Preliminary Affirmative Countervailing Duty Determination, and Alignment of Final Determination with Final Antidumping Duty Determination, 89 FR 80865 (October 4, 2024) (CVD Preliminary Determination).

Suspension of Liquidation and Cash Deposits—CVD

In accordance with section 706 of the Act, Commerce intends to instruct CBP to reinstitute the suspension of liquidation of grinding media from India, effective on the date of publication of the ITC's final affirmative injury determination in the Federal Register, and to assess, upon further instruction by Commerce, countervailing duties on each entry of subject merchandise in an amount based on the net countervailable subsidy rates below. These instructions suspending liquidation will remain in effect until further notice.

Commerce also intends, pursuant to section 706(a)(1) of the Act, to instruct CBP to require cash deposits equal to the amounts as indicated below. Accordingly, effective on the date of publication of the ITC's final affirmative injury determination in the Federal Register, CBP will require, at the same time as importers would normally deposit estimated customs duties on the subject merchandise, a cash deposit for each entry of subject merchandise equal to the subsidy rates listed below.¹² The all-others rate applies to all producers and exporters not specifically listed below, as appropriate.

¹² See section 706(a)(3) of the Act.

Estimated CVD Subsidy Rates

The estimated CVD subsidy rates published in Commerce's CVD Final Determination are as follows:

¹³ Commerce continued to find that AIAEL is cross owned with Vega Industries (Middle East) F.Z.C. and Welcast Steels Ltd. See CVD Final Determination.

Company | Subsidy rate (percent ad valorem)
AIA Engineering Limited; Vega Industries (Middle East) F.Z.C; Welcast Steels Ltd ¹³ | 3.16
All Others | 3.16

Provisional Measures—CVD

Section 703(d) of the Act states that the suspension of liquidation pursuant to an affirmative preliminary determination may not remain in effect for more than four months. Commerce published the CVD Preliminary Determination on October 4, 2024.¹⁴ As such, the four-month period beginning on the date of the publication of the CVD Preliminary Determination ended on January 31, 2025.

¹⁴ See CVD Preliminary Determination.

Therefore, in accordance with section 703(d) of the Act, Commerce instructed CBP to terminate the suspension of liquidation and to liquidate, without regard to countervailing duties, unliquidated entries of grinding media from India entered, or withdrawn from warehouse, for consumption, on or after February 1, 2025, the first day provisional measures were no longer in effect, until and through the day preceding the date of publication of the ITC Final Determination. Suspension of liquidation and the collection of cash deposits will resume on the date of publication of the ITC Final Determination in the Federal Register.

Establishment of the Annual Inquiry Service Lists

On September 20, 2021, Commerce published the Final Rule in the Federal Register.¹⁵ On September 27, 2021, Commerce also published the Procedural Guidance in the Federal Register.¹⁶ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin. In accordance with the Procedural Guidance, for orders published in the Federal Register after November 4, 2021, Commerce will create an annual inquiry service list segment in Commerce's online e-filing and document management system, Antidumping and Countervailing Duty Electronic Service System (ACCESS), available at https://access.trade.gov, within five business days of publication of the order. Each annual inquiry service list will be saved in ACCESS, under each case number, and under a specific segment type called “AISL Annual Inquiry Service List.” ¹⁷

¹⁵ See Regulations to Improve Administration and Enforcement of Antidumping and Countervailing Duty Laws, 86 FR 52300 (September 20, 2021) (Final Rule).

¹⁶ See Scope Ruling Application; Annual Inquiry Service List; and Informational Sessions, 86 FR 53205 (September 27, 2021) (Procedural Guidance).

¹⁷ This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL-January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance,¹⁸ the new annual inquiry service list will be in place until the following year, when the Opportunity Notice for the anniversary month of the order is published.

¹⁸ See Procedural Guidance, 86 FR at 53206.

Commerce may update an annual inquiry service list at any time as needed based on interested parties' amendments to their entries of appearance to remove or otherwise modify their list of members and representatives, or to update contact information. Any changes or announcements pertaining to these procedures will be posted to the ACCESS website.

Special Instructions for Petitioners and Foreign Governments

In the Final Rule, Commerce stated that, “after an initial request and placement on the annual inquiry service list, both petitioners and foreign governments will automatically be placed on the annual inquiry service list in the years that follow.” ¹⁹ Accordingly, as stated above, the petitioner and the Government of India should submit their initial entries of appearance after publication of this notice in order to appear in the first annual inquiry service lists for those orders for which they qualify as an interested party. Pursuant to 19 CFR 351.225(n)(3), the petitioner and the Government of India will not need to resubmit their entries of appearance each year to continue to be included on the annual inquiry service list. However, the petitioner and the Government of India are responsible for making amendments to their entries of appearance during the annual update to the annual inquiry service list in accordance with the procedures described above.

¹⁹ See Final Rule, 86 FR at 52335.

Notification to Interested Parties

This notice constitutes the AD and CVD orders with respect to grinding media from India, pursuant to sections 736(a) and 706(a) of the Act. Interested parties can find a list of AD and CVD orders currently in effect at https://enforcement.trade.gov/stats/iastats1.html.

These orders are issued and published in accordance with sections 736(a) and 706(a) of the Act, and 19 CFR 351.211(b).

Dated: June 12, 2025.
Steven Presing,
Acting Deputy Assistant Secretary for Policy and Negotiations.

Appendix I

Scope of the Orders

The scope of these orders covers chrome cast iron grinding media in spherical (ball) or ovoid shape, with an alloy composition of seven percent or more (≥7 percent of total mass) chromium (Cr) content and produced through the casting method, with a nominal diameter of up to 127 millimeters (mm) and tolerance of plus or minus 10 mm. The products covered by the scope are currently classified under Harmonized Tariff Schedule of the United States (HTSUS) subheading 7325.91.0000. This HTSUS subheading is provided for convenience and U.S. Customs purposes only. The written description of the scope is dispositive.

[FR Doc. 2025-11175 Filed 6-17-25; 8:45 am]

BILLING CODE 3510-DS-P